DEPARTMENT OF EDUCATION

President's Advisory Board on Tribal Colleges and Universities Meeting

AGENCY: President's Advisory Board on Tribal Colleges and Universities.

ACTION: Notice of open meeting.

SUMMARY: This notice sets forth the schedule and proposed agenda of the first meeting of the President's Advisory Board on Tribal Colleges and Universities and is intended to notify the general public of their opportunity to attend. This notice also describes the functions of the Board. Notice of the Board's meeting is required under section 10(a)(2) of the Federal Advisory Committee Act.

Date and Time: October 29, 2002-9 a.m. to 5:30 p.m.

Location: Institute of American Indian Arts (IAIA), 83 Avan Nu Po Road, Santa Fe, New Mexico 87508

Date and Time: October 29, 2002-8:30 a.m. to 12.

Location: Institute of American Indian Arts Museum, 108 Cathedral Place, Santa Fe, New Mexico 87501.

FOR FURTHER INFORMATION CONTACT: Victoria Vasques, Acting Executive Director, President's Advisory Board on Tribal Colleges and Universities, U.S. Department of Education, 400 Maryland Avenue, SW., Washington, DC 20202. Telephone: (202) 260-7485. Fax: (202) 260-4149.

SUPPLEMENTARY INFORMATION: The Board is established by Executive Order 13270 dated July 3, 2002 to provide advice regarding the progress made by federal agencies toward fulfilling the purposes and objective of the order. The Board shall also provide recommendations to the President and the Secretary of Education at least annually on ways Tribal Colleges can: (1) Use long-term development, endowment building, and master planning to strengthen institutional viability; (2) improve financial management and security, obtain private sector funding support, and expand and complement federal education initiatives; (3) develop institutional capacity through the use of new and emerging technologies offered by the federal and private sectors; (4) enhance physical infrastructure to facilitate more efficient operation and effective recruitment and retention of students and facility; and (5) help implement the No Child Left Behind Act of 2001 and meet other high standards of educational achievement.

The general public is welcome to attend. However, space is limited and is available on a first-come, first-served basis. Individuals who need accommodations for a disability in order to attend the meeting (i.e. interpreting services, assistive listening devices, materials in alternative format) should notify Betty Thompson at (202) 260-0223 no later than October 21, 2002. We will attempt to meet requests after this date, but cannot guarantee availability of the requested accommodation. The meeting site is accessible to individuals with disabilities.

A summary of the activities of the meeting and other related materials, which are informative to the public and consistent with the policy of section 5 U.S.C. 552, will be available to the public within 14 days after the meeting. Records are kept of all Board proceedings and are available for public inspection at the White House Initiative on Tribal Colleges & Universities, United States Department of Education, 400 Maryland Avenue, SW., Washington, DC from 9 a.m. to 5:30 p.m.

Rod Paige,
Secretary, Department of Education.

[FR Doc. 02-26198 Filed 10-15-02; 8:45 am]

BILLING CODE 4000-01-M